DEPARTMENT OF COMMERCE

National Oceanic and Atmospheric Administration

[RTID 0648-XA549]

South Atlantic Fishery Management Council; Public Meetings

AGENCY: National Marine Fisheries Service (NMFS), National Oceanic and Atmospheric Administration (NOAA), Commerce.

ACTION: Meeting of Coral Advisory Panel and Deep Water Shrimp Advisory Panel.

SUMMARY: The South Atlantic Fishery Management Council (Council) will hold a meeting of its Coral Advisory Panel (AP) and Deep Water Shrimp AP.

DATES: The Coral Advisory Panel and Deep Water Shrimp Advisory Panel will meet on Tuesday November 10, 2020, from 1 p.m. to 3 p.m. via webinar.

ADDRESSES: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Coral AP and Deep Water Shrimp AP meeting is open to the public and will be available via webinar as it occurs. Registration is required. Webinar registration information and other meeting materials will be posted to the Council's website at: http://safmc.net/safmc-meetings/current-advisory-panel-meetings/ as it becomes available.

The AP meeting agenda includes the following: Review and input by the Coral AP and the Deep Water Shrimp AP on options for Coral Amendment 10 to create a Shrimp Fishery Access Area along the eastern side of the northern extension of the Oculina Bank Coral Habitat Area of Particular Concern. The advisory panels will develop recommendations for consideration by the Council's Habitat Protection and Ecosystem-Based Management Committee.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: October 19, 2020.
Tracey L. Thompson,
Acting Deputy Director, Office of Sustainable Fisheries, National Marine Fisheries Service.

[FR Doc. 2020-23435 Filed 10-21-20; 8:45 am]

BILLING CODE 3510-22-P